DEPARTMENT OF JUSTICE

28 CFR Part 68

Rules of Practice and Procedure for Administrative Hearings Before Administrative Law Judges in Cases Involving Allegations of Unlawful Employment of Aliens, Unfair Immigration-Related Employment Practices, and Document Fraud

CFR Correction

This rule is being published by the Office of the Federal Register to correct an editorial or technical error that appeared in the most recent annual revision of the Code of Federal Regulations.

In Title 28 of the Code of Federal Regulations, parts 43 to end, revised as of July 1, 2021, in § 68.30, in paragraph (e), remove and replace the two commas following the first sentence with a new second sentence to read as follows:

§ 68.30 Disqualification.

* * * * *

(e) * * * In the event of disqualification or recusal of the Chief Administrative Hearing Officer as provided in this section, the review shall be referred to the Director for further proceedings. * * *

[FR Doc. 2022-13994 Filed 6-28-22; 8:45 am]

BILLING CODE 0099-10-P